DEPARTMENT OF DEFENSE

Department of the Navy

Meeting of the Chief of Naval Operations (CNO) Executive Panel

AGENCY: Department of the Navy, DOD.

ACTION: Notice of closed meeting.

SUMMARY: The CNO Executive Panel will meet to conduct the midterm briefing of the High Impact Environmental Issues Task Force to the Chief of Naval Operations. This meeting will consist of discussions of findings regarding security implications, training impact and readiness effects, and will also include preliminary recommendations for Navy environmental strategy and evaluations of alternative training means. This meeting will be closed to the public.

DATES: The meeting will be held on Friday, June 22, 2001, from 1:30 p.m. to 2:00 p.m.

ADDRESSES: The meeting will be held at the office of the Chief of Naval Operations, 2000 Navy Pentagon, Room 4E630, Washington, DC 20350-2000.

FOR FURTHER INFORMATION CONTACT: Commander Christopher Agan, CNO Executive Panel, 4825 Mark Center Drive, Alexandria, VA 22311, telephone (703) 681-6205.

SUPPLEMENTARY INFORMATION: Pursuant to the provisions of the Federal Advisory Committee Act (5 U.S.C. App. 2), these matters constitute classified information that is specifically authorized by Executive Order to be kept secret in the interest of national defense and are, in fact, properly classified pursuant to such Executive Order. Accordingly, the Secretary of the Navy has determined in writing that the public interest requires that all sessions of the meeting be closed to the public because they will be concerned with matters listed in section 552b(c)(1) of title 5, United States Code.

Dated: June 5, 2001.
J.L. Roth,
Lieutenant Commander, U.S. Navy, Judge Advocate General's Corps, Federal Register Liaison Officer.

[FR Doc. 01-15021 Filed 6-13-01; 8:45 am]

BILLING CODE 3810-FF-U